NUCLEAR REGULATORY COMMISSION

Final Regulatory Guide: Issuance, Availability

AGENCY: U.S. Nuclear Regulatory Commission.

ACTION: Issuance, Availability of Regulatory Guide 4.21.

FOR FURTHER INFORMATION CONTACT: Edward O'Donnell, U.S. Nuclear Regulatory Commission, Washington, DC 20555-0001, telephone (301) 415-6265 or e-mail to Edward.ODonnell@nrc.gov.

SUPPLEMENTARY INFORMATION: The U.S. Nuclear Regulatory Commission (NRC) is issuing a new regulatory guide, RG 4.21, “Minimization of Contamination and Radioactive Waste Generation: Life-Cycle Planning.” The NRC's regulatory guides describe and make available to the public information such as methods that are acceptable to the NRC staff for implementing specific parts of the agency's regulations, techniques that the staff uses in evaluating specific problems or postulated accidents, and data that the staff needs in its review of applications for permits and licenses.

This guide describes a method that the staff of the NRC considers acceptable for use in implementation of Title 10 of the Code of Federal Regulations, Section 20.1406 (10 CFR 20.1406), “Minimization of Contamination.” Section 20.1406 requires applicants for licenses, design certification, approval of standard designs, and manufacturing licenses under 10 CFR Part 52, “Early Site Permits; Standard Design Certifications; and Combined Licenses for Nuclear Power Plants,” to submit information with regard to design and operational procedures for (1) minimizing radioactive waste generation, contamination of the facility and the environment, and (2) facilitating decommissioning.

In July 2007, the NRC published a draft of this guide as DG-4012. The public comment period closed on November 1, 2007. The staff's responses to the public comments are located in the NRC's Agencywide Documents Access and Management System (ADAMS), Accession Number ML080700256.

Electronic copies of RG 4.21 are available through the NRC's public Web site under “Regulatory Guides” at http://www.nrc.gov/reading-rm/doc-collections/.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Regulatory guides are not copyrighted, and NRC approval is not required to reproduce them.

Dated at Rockville, Maryland, this 5th day of June, 2008.
For the Nuclear Regulatory Commission.
Makuteswara Srinivasan,
Regulatory Guide Development Branch, Division of Engineering, Office of Nuclear Regulatory Research.

[FR Doc. E8-13217 Filed 6-11-08; 8:45 am]

BILLING CODE 7590-01-P